DEPARTMENT OF THE INTERIOR

Bureau of Land Management

[NV-930-1430-EU; N-74957]

Esmeralda County, Nevada; Notice of Realty Action: Segregation Terminated, Sale of Public Land in Esmeralda County, Nevada, by Non-Competitive Sale Procedures

AGENCY: Bureau of Land Management, Interior.

ACTION: Segregation terminated, non-competitive sale of public lands in Esmeralda County, Nevada.

SUMMARY: The following described lands near Dyer, Esmeralda County, Nevada, was segregated for exchange purposes on May 3, 2002 under serial number N-74957. The exchange segregation on the subject land will be terminated upon publication of this notice in the Federal Register. The segregation for exchange purposes is being terminated in order to allow for a sale. The lands have been examined and found suitable for disposal by direct sale, at the appraised fair market value, to John Mauer of Dyer, Nevada. Authority for the sale is in Sections 203 and 209 of the Federal Land Policy and Management Act of October 21,1976 (43 U.S.C. 1701,1713, 1719).

Mount Diablo Meridian, Nevada

T. 4 S., R. 36 E.,

Sec. 23, SE¼NW¼, NE¼SW¼;

Totaling 80.0 acres more or less.

The above-described lands are hereby classified for disposal in accordance with section 7 of the Taylor Grazing Act, 43 U.S.C. 315f, Act of June 28, 1934, as amended and Executive Order 6910.

DATES: Comments must be submitted within 45 days of the date this Notice is published in the Federal Register.

ADDRESSES: Bureau of Land Management, Tonopah Field Station, 1553 South Main Street, Post Office Box 911, Tonopah, Nevada 89049.

FOR FURTHER INFORMATION CONTACT: Wendy Barlow, Realty Specialist, at the above address or at (775) 482-7806.

SUPPLEMENTARY INFORMATION: This parcel of land near Dyer, Nevada, is being offered by direct sale to John Mauer. The land is not required for Federal purposes. The proposed action is consistent with the objectives, goals, and decisions of the Tonopah Resource Management Plan.

Conveyance of the available mineral interests will occur simultaneously with the sale of the land. Acceptance of the sale offer will constitute an application for the available minerals and the purchaser will be charged a $50.00 nonrefundable filing fee for the mineral interests.

The proponent will have 30 days from the date of receiving the sale offer to accept the offer and to submit a deposit of 30 percent of the purchase price, the $50 mineral filing fee, and money for publication costs. The purchaser must submit the rest of the purchase price, within 90 days from the date the sale offer is received. Payments may be by certified check, postal money order, bank draft, or cashier's check made payable to the U. S. Department of the Interior—BLM. Failure to meet conditions established for this sale will void the sale and any money received for the sale will be forfeited.

The patent, when issued, will contain a reservation to the United States for a right-of-way for ditches and canals constructed by the authority of the United States under the Act of August 30, 1890, 26 Stat. 391; 43 U.S.C. 945, and will be subject to:

1. Esmeralda County RS 2477 assertion, for a road having a varied width;

2. Oil, gas, and Geothermal Resources; and

3. Valid Existing rights.

Publication of this Notice in the Federal Register segregates the subject lands from all appropriations under the public land laws, except sale under the Federal Land Policy and Management Act of 1976. The segregation will terminate upon issuance of the patent or 270 days from date of publication, which ever occurs first.

For a period of 45 days from the date this Notice is published in the Federal Register, interested parties may submit comments to the Tonopah Field Station Manager at the above address. Any adverse comments will be reviewed by the State Director, who may sustain, vacate, or modify this realty action and issue a final determination. In the absence of timely filed objections this realty action will become the final determination of the Department of the Interior. The land will not be offered for sale until at least sixty days after the date this notice was published in the Federal Register.

Dated: June 27, 2002.
Jack L. Hamby,
Acting Assistant Field Manager, Tonopah.

[FR Doc. 02-21389 Filed 8-21-02; 8:45 am]

BILLING CODE 4310-HC-P